SECURITIES AND EXCHANGE COMMISSION

[Release No. 34-55536; File No. SR-NYSE-2007-01]

Self-Regulatory Organizations; New York Stock Exchange LLC; Order Approving Proposed Rule Change to Amend Listing and Annual Fees Applicable to Investment Company Units, Currency Trust Shares, Commodity Trust Shares and streetTRACKS® Gold Shares

March 27, 2007.

On January 24, 2007, the New York Stock Exchange LLC (“NYSE” or “Exchange”) filed with the Securities and Exchange Commission (“Commission”) pursuant to Section 19(b)(1) of the Securities Exchange Act of 1934 (“Act”) ¹ and Rule 19b-4 thereunder,² a proposal to amend initial listing fees and annual fees applicable to Investment Company Units (“ICUs”), Currency Trust Shares, Commodity Trust Shares and streetTRACKS® Gold Shares in Section 902.07 of the NYSE Listed Company Manual (“Manual”), and to make conforming amendments to Sections 902.02 and 902.03 of the Manual. The proposed rule change was published for comment in the Federal Register on February 23, 2007.³ The Commission did not receive any comments regarding the proposal. This order approves the proposed rule change.

¹ 15 U.S.C. 78s(b)(1).

² 17 CFR 240.19b-4.

³ Securities Exchange Act Release No. 55299 (February 15, 2007), 72 FR 8233.

Under the proposed rule change, the current flat $5,000 Listing Fee for each series of ICUs will be broadened to also apply to each series of streetTRACKS® Gold Shares and each issue of Currency Trust Shares and Commodity Trust Shares. Further, the Listing and Annual Fees for ICUs, streetTRACKS® Gold Shares, Currency Trust Shares, and Commodity Trust Shares will not be counted toward the NYSE's total annual fees cap of $500,000.

In addition, the annual fee charged for ICUs, Currency Trust Shares, Commodity Trust Shares and streetTRACKS® Gold Shares by the Exchange is currently a flat amount. Under the proposed rule change, this fee will be tiered based on the number of shares outstanding for each issue at the end of the preceding calendar quarter and will be billed on a quarterly basis.

The Commission has reviewed carefully the proposed rule change and finds that it is consistent with the requirements of the Act and the rules and regulations thereunder applicable to a national securities exchange.⁴ In particular, the Commission finds that the proposed rule change is consistent with Section 6(b)(4) of the Act,⁵ which requires that the rules of the exchange provide for the equitable allocation of reasonable dues, fees, and other charges among its members and issuers and other persons using its facilities. The Commission notes that, in part, the proposed rule change merely reflects on the Exchange's fee schedule listing fees that had previously been approved by the Commission.⁶ In addition, the Commission notes that it has approved similar tiered annual fee structures.⁷

⁴ In approving this proposal, the Commission has considered the proposed rule's impact on efficiency, competition, and capital formation. 15 U.S.C. 78c(f).

⁵ 15 U.S.C. 78f(b)(4).

⁶ See, e.g., Securities Exchange Act Release Nos. 50603 (October 28, 2004), 69 FR 64614 (November 5, 2004) (SR-NYSE-2004-22) and 54020 (June 20, 2006), 71 FR 36579 (June 27, 2006) (SR-NYSE-2006-35).

⁷ See, e.g., Securities Exchange Act Release Nos. 53059 (January 5, 2006), 71 FR 2072 (January 12, 2006) (SR-Amex-2005-128) and 54007 (June 16, 2006), 71 FR 36155 (June 23, 2006) (SR-PCX-2006-16).

It is therefore ordered, pursuant to Section 19(b)(2) of the Act,⁸ that the proposed rule change (File No. SR-NYSE-2007-01) be, and hereby is, approved.

⁸ 15 U.S.C. 78s(b)(2).

For the Commission, by the Division of Market Regulation, pursuant delegated authority.⁹
⁹ 17 CFR 200.30-3(a)(12).
Florence E. Harmon,
Deputy Secretary.

[FR Doc. E7-5983 Filed 3-30-07; 8:45 am]

BILLING CODE 8010-01-P